DEPARTMENT OF TRANSPORTATION

National Highway Traffic Safety Administration

49 CFR Parts 523, 531, 533, 536, and 537

[NHTSA-2025-0491, NHTSA-2025-0490]

RIN 2127-AM76

The Safer Affordable Fuel-Efficient (SAFE) Vehicles Rule III for Model Years 2022 to 2031 Passenger Cars and Light Trucks

AGENCY: National Highway Traffic Safety Administration (NHTSA), Transportation.

ACTION: Proposed rule; extension of comment period.

SUMMARY: NHTSA is announcing a 15-day extension of the comment period for the proposed rule entitled The Safer Affordable Fuel-Efficient (SAFE) Vehicles Rule III for Model Years 2022 to 2031 Passenger Cars and Light Trucks, published in the December 5, 2025 issue of the Federal Register. NHTSA is also extending the comment period for the Draft Supplemental Environmental Impact Statement (Draft SEIS) that accompanies the proposed rule. The comment period was to end on January 20, 2026 (45 days after publication of the proposed rule in the Federal Register). This document extends the comment period to February 4 to allow the public additional time to comment on the proposed rule. NHTSA is denying requests for additional public hearings based on the number of testifiers that signed up to testify for NHTSA's virtual public hearing, which was announced via Federal Register notice on December 12, 2025 and held on January 7, 2026.

DATES: The comment period for the proposed rule (90 FR 56438) published December 5, 2025, is extended. Comments on the proposed rule and Draft SEIS must be received by February 4. Late-filed comments may be considered so far as possible without incurring additional expense or delay.

ADDRESSES: You may submit comments to the docket number identified in the heading of this document by any of the following methods:

• Federal eRulemaking Portal: Go to http://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, between 9 a.m. and 5 p.m. ET, Monday through Friday, except Federal holidays.

• Fax: 202-493-2251.

Instructions: All submissions must include the agency name and docket number. Note that all comments received will be posted without change to http://www.regulations.gov, including any personal information provided. Please see the Privacy Act discussion below.

Docket: For access to the docket to read background documents or comments received, go to http://www.regulations.gov at any time or to 1200 New Jersey Avenue SE, West Building Ground Floor, Room W12-140, Washington, DC 20590, between 9 a.m. and 5 p.m., Monday through Friday, except Federal Holidays. Telephone: 202-366-9826.

Privacy Act: In accordance with 5 U.S.C. 553(c), DOT solicits comments from the public to better inform its decision-making process. DOT posts these comments, without edit, including any personal information the commenter provides, to www.regulations.gov, as described in the system of records notice (DOT/ALL-14 FDMS), which can be reviewed at www.transportation.gov/privacy. In order to facilitate comment tracking and response, we encourage commenters to provide their name, or the name of their organization; however, submission of names is completely optional. Whether or not commenters identify themselves, all timely comments will be fully considered.

Confidential Business Information: If you wish to submit any information under a claim of confidentiality, you must submit your request directly to NHTSA's Office of the Chief Counsel. Requests for confidentiality are governed by 49 CFR part 512. NHTSA is currently treating electronic submission as an acceptable method for submitting confidential business information to the agency under part 512. If you would like to submit a request for confidential treatment, you may email your submission to Dan Rabinovitz in the Office of the Chief Counsel at Daniel.Rabinovitz@dot.gov or you may contact him for a secure file transfer link. At this time, you should not send a duplicate hardcopy of your electronic CBI submissions to DOT headquarters. If you claim that any of the information or documents provided to the agency constitute confidential business information within the meaning of 5 U.S.C. 552(b)(4), or are protected from disclosure pursuant to 18 U.S.C. 1905, you must submit supporting information together with the materials that are the subject of the confidentiality request, in accordance with part 512, to the Office of the Chief Counsel. Your request must include a cover letter setting forth the information specified in our confidential business information regulation (49 CFR 512.8) and a certificate, pursuant to § 512.4(b) and part 512, Appendix A. In addition, you should submit a copy, from which you have deleted the claimed confidential business information, to the Docket at the address given above.

Paperwork Reduction Act: Comments on the proposed information collection requirements should be submitted to: Office of Management and Budget at www.reginfo.gov/public/do/PRAMain. To find this information collection, select “Currently under Review—Open for Public Comment” or use the search function. It is requested that comments sent to the OMB also be sent to the NHTSA rulemaking docket identified in the heading of this document.

FOR FURTHER INFORMATION CONTACT: For technical and policy issues, Joseph Bayer, CAFE Program Division Chief, Office of Rulemaking, National Highway Traffic Safety Administration, 1200 New Jersey Avenue SE, Washington, DC 20590; email: CAFE_Mbox@dot.gov. For legal issues, Hannah Fish, NHTSA Office of the Chief Counsel, National Highway Traffic Safety Administration, 1200 New Jersey Avenue SE, Washington, DC 20590; email: CAFE_Mbox@dot.gov.

SUPPLEMENTARY INFORMATION: On December 5, 2025, NHTSA published in the Federal Register a proposed rule titled “The Safer Affordable Fuel-Efficient (SAFE) Vehicles Rule III for Model Years 2022 to 2031 Passenger Cars and Light Trucks.” ¹ The public comment period for the proposed rule was scheduled to end on January 20, 2026. Additionally, the public comment period for NHTSA's Draft SEIS for the proposed rule likewise was scheduled to end on January 20, 2026. NHTSA also published a notice in the Federal Register on December 12, 2025 announcing a virtual public hearing to be held on January 7, 2026, potentially extending into January 8, 2026 if needed.² NHTSA received four requests to extend the comment period (received by the agency's dockets) as of the date of this notice. These requesters also asked that the agency hold additional public hearings to allow more opportunities for oral presentation of public comments, in additional locations. A summary of these requests is as follows:

¹ 90 FR 56438 (Dec. 5, 2025).

² 90 FR 57726 (Dec. 12, 2025).

Requester | Date submitted | Docket ID No. | Extension length requested | Public hearing requests
Attorneys General of the States of New York, Maryland, Colorado, Delaware, Hawai`i, Maine, Massachusetts, Minnesota, New Jersey, New Mexico, Oregon, Rhode Island, Washington, and Wisconsin, and the Chief Legal Officer of the City of New York | December 10, 2025 | NHTSA-2025-0491-0154 | At least 45 days (at least a total of 90 days for comment period) | Significantly increase the number of public hearings, including additional virtual hearings as well as in-person hearings at every NHTSA regional office (including NHTSA headquarters in Washington, DC).
Zero Emission Transportation Association (ZETA) | December 19, 2025 | NHTSA-2025-0491-1260 | At least 45 days (at least a total of 90 days for comment period) | Several additional public hearings, including in-person and virtual options.
The Center for Biological Diversity, Environmental Defense Fund, Natural Resources Defense Council, and Sierra Club | December 22, 2025 | NHTSA-2025-0490-0015, NHTSA-2025-0491-1355 | At least 45 days (at least a total of 90 days for comment period) | At least two additional public hearings.
Paul Billings, individual | January 7, 2026 | Public Hearing comment | At least 45 days (at least a total of 90 days for comment period) | None provided.

In support of their requests for longer comment periods and additional public hearings, all requesters cited the time needed for careful analysis and review, the technically complex changes from prior analyses, and the potential significance of the proposed rule's potential effects on the U.S. economy, consumers, human health, and the environment.

After thorough consideration of these requests, NHTSA is extending the public comment period for the proposed rule, as well as for the Draft SEIS, by 15 days to February 4, 2026—a total of 60 days. The agency believes that this amount of time should be adequate for commenters to review fully and comment meaningfully on the proposed rule and on the Draft SEIS. This length of time comports with prior NHTSA CAFE comment periods ³ and comment periods for other significant rules,⁴ while balancing the public interest in timely completion of the final rule.

³ 86 FR 49602 (Sept. 3, 2021); 88 FR 56128 (Aug. 17, 2023).

⁴ See, e.g., Regulations.gov, Learn About the Regulatory Process, https://www.regulations.gov/learn (“In a typical case, an agency will allow 60 days for public comment. However, in some cases, they provide either shorter or longer comment periods.”).

NHTSA is denying requests for additional public hearings and for hearings in additional locations. NHTSA reserved two days for the agency's virtual public hearing to accommodate all potential requests to testify, but the agency received requests to testify that only covered part of one day. Given the number of requestors to testify, and that a virtual public hearing format allows the most flexibility for diverse public comments from commenters in multiple locations across the country, NHTSA did not need to extend the virtual public hearing into the additional day, nor did the agency schedule additional in-person public hearings. In addition, given the ongoing opportunity for written comment, the requesters have not demonstrated a need for additional public hearings.

Issued on January 9, 2026 in Washington, DC, under authority delegated in 49 CFR 1.95.
Jonathan Morrison,
Administrator.

[FR Doc. 2026-00537 Filed 1-13-26; 8:45 am]

BILLING CODE 4910-59-P